DEPARTMENT OF DEFENSE

Department of the Air Force

Proposed Collection; Comment Request

ACTION: Notice.

In compliance with Section 3506(c)(2)(A) of the Paperwork Reduction Act of 1995, the Air Force Medical Operations Agency announces the proposed extension of AF Form 1562, Credentials Evaluation of Health Care Practitioners. Comments are invited on: (a) whether the proposed collection of information is necessary for the proper performance of functions of the agency, including whether the information shall have a practical utility; (b) the accuracy of the agency's estimate of the burden of the proposed information collection; (c) ways to enhance quality, utility, and clarity of the information to be collected; (d) ways to minimize the burden of the information collection on respondents, including through the use of automated collection techniques or other forms of information technology.

DATES: Consideration will be given to all comments received by April 9, 2001.

ADDRESSES: Written comments and recommendations on the proposed information collection should be sent to HQ USAF/SG, AFMOA/SGZC, 110 Luke Avenue, Room 405, Bolling AFB, DC 20332-7050, ATTN: Lt Col Sharon Ahrari.

FOR FURTHER INFORMATION CONTACT: To request more information on this data collection instrument, please write to the above address or call (202) 767-4077.

Title and Associated Form: Credentials Evaluation of Health Care Practitioners, AF Form 1562.

Needs and Uses: The information collection requirement is necessary to evaluate each health care practitioner's formal education, training, clinical experience, and evidence of physical, moral, and ethical capacities with regard to the practitioner's competence to treat patients in Air Force medical treatment facilities.

Affected Public: Civilian supervisors/peers of health care providers seeking privileges to practice health care in Air Force medical treatment facilities are asked to fill out this form to verify the provider has the necessary clinical experience to practice health care in the Air Force Medical Service.

Annual Burden Hours: 296.5.

Number of Respondents: 1,686.

Responses Per Respondent: 1.

Average Burden per Response: 15 Minutes.

Frequency: On occasion.

SUPPLEMENTARY INFORMATION:

Summary of Information Collection

Respondents are civilian supervisors/peers of health care providers requesting privileges to practice health care in Air Force medical treatment facilities. The completed form is used to assist in making a determination about the health care provider's formal education, training, clinical experience, and evidence of physical, moral, and ethical competence to treat Department of Defense (DoD) beneficiaries as patients in the Air Force Medical Service.

Janet A. Long,
Air Force Federal Register Liaison Officer.

[FR Doc. 01-3225 Filed 2-7-01; 8:45 am]

BILLING CODE 5001-05-U